DEPARTMENT OF THE TREASURY

Internal Revenue Service

26 CFR Part 1

[REG-112994-06]

RIN 1545-BF47

Guidance Under Section 7874 Regarding Expatriated Entities and Their Foreign Parents; Correction Notice

AGENCY: Internal Revenue Service (IRS), Treasury.

ACTION: Notice of proposed rulemaking by cross-reference to temporary regulations and notice of public hearing; correction.

SUMMARY: This document contains corrections to notice of proposed rulemaking by cross-reference to temporary regulations and notice of public hearing that was published in the Federal Register on Tuesday, June 6, 2006 (71 FR 32495) relating to the determination of whether a foreign entity shall be treated as a surrogate foreign corporation under section 7874(a)(2)(B).

FOR FURTHER INFORMATION CONTACT: Milton Cahn at (202) 622-3918 (not a toll-free number).

SUPPLEMENTARY INFORMATION:

Background

The notice of proposed rulemaking by cross-reference to temporary regulations and notice of public hearing (REG-112994-06) that is the subject of these corrections are under section 7874 of the Internal Revenue Code.

Need for Correction

As published, the notice of proposed rulemaking by cross-reference to temporary regulations and notice of public hearing (REG-112994-06) contains errors that may prove to be misleading are in need of correction.

Correction of Publication

Accordingly, the notice of proposed rulemaking by cross reference to temporary regulations and notice of public hearing (REG-112994-06), that was the subject of FR Doc. E6-8698, is corrected as follows:

1. On page 32495, column 2, in the preamble, under the caption SUMMARY, line 8, the language “of the Code. The text of those” is corrected to read “of the Internal Revenue Code. The text of those”.

2. On page 32495, column 2, in the preamble, under the caption DATES, lines 5 and 6, the language “24, 2006 at 10 a.m., must be received by October 3, 2006” is corrected to read “31, 2006, at 10 a.m., must be received by October 10, 2006”.

3. On page 32495, column 2, in the preamble, under the caption ADDRESSES, lines 2-11, the language “CC:PA:LPD:PR (REG-112994-06), room 5203, Internal Revenue Service, PO Box 7604, Ben Franklin Station, Washington, DC 20044. Submissions may be hand-delivered Monday through Friday between the hours of 8 a.m. and 4 p.m. to: CC:PA:LPD:PR (REG-112994-06), Courier's Desk, Internal Revenue Service, 1111 Constitution Avenue, N.W., Washington, DC, or sent”. is corrected to read CC:PA:LPD (REG-112994-06), Internal Revenue Service, PO Box 7604 Ben Franklin Station, Washington, DC 20044 or sent”.

4. On page 32495, column 2, in the preamble, under the caption ADDRESSES, lines 1-3 from the bottom of the paragraph, the language, “held in the auditorium, Internal Revenue Building, 1111 Constitution Avenue, NW., Washington DC” is corrected to read “held in the auditorium, Internal Revenue Service, New Carrollton Federal Building (NCFB), 5000 Ellin Rd., Lanham, MD 20706”.

5. On page 32495, column 2, in the preamble, under the caption FOR FURTHER INFORMATION CONTACT, line 3, the language “Milton Cahn at (202) 622-3860;” is corrected to read “Milton Cahn at (202) 927-0889 or (202) 622-3918;”.

6. On page 32495, column 3, in the preamble, under the caption FOR FURTHER INFORMATION CONTACT, lines 2 and 3 from the top of the column, the language “Treena Garrett, (202) 622-7180 (not toll-free numbers)” is corrected to read “Kelly Banks, (202) 927-1443 (not toll-free numbers)”.

7. On page 32495, column 3, in the preamble, under the paragraph heading “Background and Explanation of Provisions”, line 5 from the bottom of the paragraph, the language “7874(a)(2)(B) of the Code. The text of” is corrected to read “7874(a)(2)(B) of the Internal Revenue Code. The text of”.

8. On page 32495, column 3, in the preamble, under the paragraph “Special Analyses”, line 5 from the bottom of the paragraph, the language “of the Code, this notice of proposed” is corrected to read “of the Internal Revenue Code, this notice of proposed”.

9. On page 32496, column 1, in the preamble, under the paragraph heading “Comments and Public Hearing”, first paragraph of the column, lines 2 through 5, the language “for October 24, 2006, at 10 a.m. in the auditorium, Internal Revenue Building, 1111 Constitution Avenue, NW., Washington, DC.” is corrected to read “for October 31, 2006, at 10 a.m. in the auditorium, Internal Revenue Service, New Carrollton Federal Building, 5000 Ellin Road, Lanham, MD 20706.”

10. On page 32496, column 1, in the preamble, under the paragraph heading “Comments and Public Hearing”, second paragraph of the column, lines 2 through 5, the language “for October 24, 2006, at 10 a.m. in the auditorium, Internal Revenue Building, 1111 Constitution Avenue, N.W., Washington DC. Due to building” is corrected to read “for October 31, 2006, at 10 a.m. in the auditorium, Internal Revenue Service, New Carrollton Federal Building, 5000 Ellin Road, Lanham, MD 20706.”

Guy R. Traynor,
Chief, Publications and Regulations Branch, Legal Processing Division, Office of Associate Chief Counsel (Procedure and Administration).

[FR Doc. E6-13424 Filed 8-15-06; 8:45 am]

BILLING CODE 4830-01-P